DEPARTMENT OF VETERANS AFFAIRS

[OMB Control No. 2900-0623]

Agency Information Collection Activity Under OMB Review: Department of Veterans Affairs Acquisition Regulation (VAAR), Special Notes

AGENCY: Office of Acquisition and Logistics, Department of Veterans Affairs.

ACTION: Notice.

SUMMARY: In compliance with the Paperwork Reduction Act (PRA) of 1995, this notice announces that the Office of Acquisition and Logistics, Department of Veterans Affairs, will submit the collection of information abstracted below to the Office of Management and Budget (OMB) for review and comment. The PRA submission describes the nature of the information collection and its expected cost and burden and it includes the actual data collection instrument.

DATES: Comments must be submitted on or before January 11, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0623” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0623” in any correspondence.

SUPPLEMENTARY INFORMATION:

Authority: 44 U.S.C. 3501-21.

Title: Department of Veterans Affairs Acquisition Regulation (VAAR) Clause 852.236-91, Special Notes.

OMB Control Number: 2900-0623.

Type of Review: Extension of a currently approved information collection.

Abstract: VAAR clause 852.236-91, Special Notes requires VA to determine whether or not to award a contract to a firm that might involve or result in a conflict of interest. VA uses the information to determine whether additional contract terms and conditions are necessary to mitigate the conflict.

An agency may not conduct or sponsor, and a person is not required to respond to a collection of information unless it displays a currently valid OMB control number. The Federal Register Notice with a 60-day comment period soliciting comments on this collection of information was published at 82 FR 44029 on September 20, 2017.

Affected Public: Business or other for-profit and not-for-profit institutions.

Estimated Annual Burden: VAAR Clause 852.236-91, Special Notes —778 hours.

Estimated Average Burden per Respondent:

a. VAAR Clause 852.236-91 for Qualified Data—.5 hour.

b. VAAR Clause 852.236-91 for Weather Data—1 hour.

Frequency of Response: On occasion.

Estimated Number of Respondents:

a. VAAR Clause 852.236-91 for Qualified Data—1516.

b. VAAR Clause 852.236-91 for Weather Data—20.

By direction of the Secretary.
Cynthia Harvey-Pryor,
Department Clearance Officer, Office of Quality, Privacy and Risk, Department of Veterans Affairs.

[FR Doc. 2017-26758 Filed 12-11-17; 8:45 am]

BILLING CODE 8320-01-P